FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 12, 2003.

A. Federal Reserve Bank of Chicago (Phillip Jackson, Applications Officer) 230 South LaSalle Street, Chicago, Illinois 60690-1414:

1. Tim Lapke, Logan, Iowa; John Lapke, Logan, Iowa; and Chris Hartwig, Missouri Valley, Iowa; to acquire voting shares of Logan Bancorporation, Inc., Logan, Iowa, and thereby indirectly acquire voting shares of The First National Bank of Logan, Logan, Iowa.

B. Federal Reserve Bank of Minneapolis (Richard M. Todd, Vice President and Community Affairs Officer) 90 Hennepin Avenue, Minneapolis, Minnesota 55480-0291:

1. John Finch Woodhead, Delano, Minnesota, as trustee of the Cobb Limited Partnership, St. Croix Falls, Wisconsin; to acquire voting shares of Financial Services of St. Croix Falls, Inc., St. Croix Falls, Wisconsin, and thereby indirectly acquire voting shares of Eagle Valley Bank, National Association, St. Croix Falls, Wisconsin.

C. Federal Reserve Bank of Dallas (W. Arthur Tribble, Vice President) 2200 North Pearl Street, Dallas, Texas 75201-2272:

1. Marvin Sparks, Panhandle, Texas; to acquire voting shares of Groom Bancshares, Inc., Groom, Texas, and thereby indirectly acquire voting shares of State National Bank, Groom, Texas.

Board of Governors of the Federal Reserve System, May 23, 2003.
Robert deV. Frierson,
Deputy Secretary of the Board.

[FR Doc. 03-13506 Filed 5-29-03; 8:45 am]

BILLING CODE 6210-01-S